OFFICE OF SCIENCE AND TECHNOLOGY POLICY

Aeronautics Science and Technology Subcommittee; Committee on Technology; National Science and Technology Council

ACTION: Notice of Meeting. Public Consultation is requested regarding the biennial update to the National Plan for Aeronautics Research and Development and Related Infrastructure.

SUMMARY: The Aeronautics Science and Technology Subcommittee (ASTS) of the National Science and Technology Council's (NSTC) Committee on Technology will hold a public meeting to discuss the biennial update to the National Plan for Aeronautics Research and Development and Related Infrastructure (Plan) that is directed by Executive Order (E.O.) 13419—National Aeronautics Research and Development—signed December 20, 2006. The biennial update to the Plan will be guided by the National Aeronautics Research and Development Policy that was developed by the NSTC and endorsed by E.O. 13419.

Dates and Addresses: The meeting will be held in conjunction with the 45th AIAA/ASME/SAE/ASEE Joint Propulsion Conference & Exhibit at the Colorado Convention Center, 650 15th Street, Denver, CO 80202. The meeting will be held on Wednesday, August 5, 2009, from 2:30 p.m. to 5 p.m. in room 401. Information regarding the 45th AIAA/ASME/SAE/ASEE Joint Propulsion Conference & Exhibit is available at the AIAA Web site: http://www.aiaa.org. Note: Persons solely attending this ASTS public meeting do not need to register for the AIAA Conference and Exhibit to attend this public meeting. There will be no admission charge for persons solely attending the public meeting. Colorado Convention Center facility information is available at the: http://www.denverconvention.com/ Web site. Seating is limited and will be on a first come, first served basis.

FOR FURTHER INFORMATION CONTACT: Additional information and links to E.O. 13419, the National Aeronautics Research and Development Policy, the National Plan for Aeronautics Research and Development and Related Infrastructure, and the Technical Appendix—National Plan for Aeronautics Research and Development and Related Infrastructure are available by visiting the Office of Science and Technology Policy's NSTC Web site at: http://www.ostp.gov/nstc/aeroplans or by calling 202-456-6601.

SUPPLEMENTARY INFORMATION: E.O. 13419 and the National Aeronautics Research and Development Policy call for executive departments and agencies conducting aeronautics research and development (R&D) to engage industry, academia and other non-Federal stakeholders in support of government planning and performance of aeronautics R&D. At this meeting, ASTS members will discuss the structure and content of the Plan and receive consultation regarding the biennial update to the Plan. The desired outcome of the meeting is to obtain facts and information from individuals regarding aeronautics R&D that should be included or deleted from the national aeronautics R&D goals and objectives related to: Mobility; national security and homeland defense; aviation safety; and energy and the environment currently contained in the Plan.

M. David Hodge,
Operations Manager, OSTP.

[FR Doc. E9-16062 Filed 7-7-09; 8:45 am]

BILLING CODE 3170-W9-P